DEPARTMENT OF COMMERCE

National Oceanic and Atmospheric Administration

50 CFR Part 635

[I.D. 013107D]

Atlantic Highly Migratory Species; Small Coastal Shark Fishery

AGENCY: National Marine Fisheries Service (NMFS), National Oceanic and Atmospheric Administration (NOAA), Commerce.

ACTION: Regional fishery closure.

SUMMARY: NMFS is closing the commercial fishery for small coastal sharks conducted by persons aboard vessels issued a Federal Atlantic shark permit in the Gulf of Mexico region. This action is necessary because the quota for the first 2007 fishing season in the Gulf of Mexico season has likely been exceeded. The commercial small coastal shark fisheries in the South Atlantic and North Atlantic regions are allocated separate quotas and will remain open until further notice.

DATES: The commercial small coastal shark fishery in the Gulf of Mexico region is closed effective from 11:30 p.m. local time February 23, 2007 to May 1, 2007.

FOR FURTHER INFORMATION CONTACT: Karyl Brewster-Geisz, 301-713-2347; fax 301-713-1917.

SUPPLEMENTARY INFORMATION: The Atlantic shark fisheries are managed under the Consolidated Atlantic Highly Migratory Species (HMS) Fishery Management Plan (FMP) and its implementing regulations found at 50 CFR part 635 issued under authority of the Magnuson-Stevens Fishery Conservation and Management Act (16 U.S.C. 1801 et seq.).

On December 14, 2006 (71 FR 75122), NMFS announced that the small coastal shark quota for the first fishing season of the 2007 fishing year in the Gulf of Mexico region would be 15.1 metric tons (mt) dressed weight (dw) (33,289 lb dw). As of January 26, 2007, preliminary reports from dealers indicate that approximately 6.6 mt dw (14,500 lb dw) were reported landed in the Gulf of Mexico region during the first fishing season of 2007. Under 50 CFR 635.5(b)(1), shark dealers are required to report every two weeks. Fish received by dealers between the 1st and 15th of any month are required to be reported by the 26th of that month. Fish received by dealers between the 16th and the end of any month are required to be reported by the 10th of the following month. As such, these preliminary reports indicate that in the first reporting period of the fishing season approximately 43.7 percent of the available quota was taken. Assuming the same catch rates continued for the second reporting period in January and will continue for the first reporting period in February, NMFS estimates that approximately 131 percent of the available quota (19.8 mt dw) could be taken by the close of the first reporting period in February (February 15, 2007). NMFS will not have estimates of actual landings through the first reporting period in February until February 26, 2007.

Under 50 CFR 635.28(b)(2), when the fishing season quota for small coastal sharks is reached for a particular region, NMFS will file for publication a notice of closure at least 14 days before the effective date. Accordingly, NMFS is closing the commercial small coastal shark fishery in the Gulf of Mexico region as of 11:30 p.m. local time February 23, 2007. During the closure, retention of small coastal sharks in the Gulf of Mexico region is prohibited for persons fishing aboard vessels issued a commercial shark limited access permit under 50 CFR 635.4, unless the vessel is permitted to operate as a charter vessel or headboat for HMS and is engaged in a for-hire trip, in which case the recreational retention limits for sharks and no sale provisions may apply (50 CFR 635.22(a) and (c)). The sale, purchase, trade, or barter or attempted sale, purchase, trade, or barter of carcasses and/or fins of small coastal sharks harvested by a person aboard a vessel in the Gulf of Mexico region that has been issued a commercial shark limited access permit under 50 CFR 635.4, is prohibited, except for those that were harvested, offloaded, and sold, traded, or bartered prior to the closure, and were held in storage by a dealer or processor.

This closure does not affect the commercial small coastal shark fisheries in the South Atlantic or North Atlantic regions which remain open until further notice. In addition, the commercial pelagic shark fishery remains open until further notice. The large coastal shark fishery in the North Atlantic is currently open, and as was announced on December 14, 2006 (71 FR 75122), will close on April 30, 2007. As announced in that notice, the large coastal shark fishery in the South Atlantic and Gulf of Mexico regions is already closed. The recreational shark fishery is not affected by this closure.

Classification

Pursuant to 5 U.S.C. 553 (b)(B), the Assistant Administrator for Fisheries, NOAA (AA), finds that providing for prior notice and public comment for this action is impracticable and contrary to the public interest. Based on recent landings reports, it is likely that the available quota for SCS in the Gulf of Mexico region will be exceeded in early February. Thus, affording prior notice and opportunity for public comment on this action is impracticable because the fishery is currently underway, and any delay in this action would cause further overharvest of the quota and be inconsistent with management requirements and objectives. Similarly, affording prior notice and opportunity for public comment on this action is contrary to the public interest because if the quota is exceeded, the effected public is likely to experience reductions in the available quota and a lack of fishing opportunities in future seasons. Thus, for these reasons, the AA also finds good cause to waive the 30-day delay in effective date pursuant to 5 U.S.C. 553 (d)(3). This action is required under 50 CFR 635.28(b)(2) and is exempt from review under Executive Order 12866.

Authority: 16 U.S.C. 1801 et seq.

Dated: February 8, 2007.
Alan D. Risenhoover,
Director, Office of Sustainable Fisheries, National Marine Fisheries Service.

[FR Doc. 07-680 Filed 2-9-07; 2:12 pm]

BILLING CODE 3510-22-S